NATIONAL FOUNDATION ON THE ARTS AND THE HUMANITIES

30-Day Notice for the “Acknowledgment of Rights-Holder for Literature: Translation Projects Applications”

AGENCY: National Endowment for the Arts.

ACTION: Notice of submission for OMB review; comment request.

SUMMARY: The National Endowment for the Arts (NEA) has submitted the following public information collection request (ICR) to the Office of Management and Budget (OMB) for review and approval in accordance with the Paperwork Reduction Act of 1995: “Acknowledgment of Rights-Holder for Literature: Translation Projects Applications.” Copies of this ICR, with applicable supporting documentation, may be obtained by visiting www.Reginfo.gov.

DATES: Comments should be sent to OMB's Office of Information and Regulatory Affairs within thirty days of this publication in the Federal Register.

ADDRESSES: Office of Information and Regulatory Affairs, Attn: OMB Desk Officer for the National Endowment for the Arts, Office of Management and Budget, Room 10235, Washington, DC 20503 (202/395-4718).

FOR FURTHER INFORMATION CONTACT: Jillian Miller, Director of Guidelines and Panel Operations, National Endowment for the Arts, at millerj@arts.gov or 202/682-5504.

SUPPLEMENTARY INFORMATION: The NEA's Literature: Translation Projects program gives grants to translators of previously written works which may be protected by copyright. The NEA typically requires that these applicants obtain from the publisher the affirmative “right to translate” the work (or, in cases that do not apply to this request that the work be in the public domain). Some publishers, due to industry standard practices, have refused to provide applicants with the “right to translate” but do not object to the work being translated. In order to ensure that these otherwise qualified applicants are eligible, the NEA proposes to use this form in which a non-applicant rights-holder affirmatively acknowledges and approves of the applicant's project.

Title of Collection: Acknowledgement of Rights-Holder for Literature: Translation Projects Applications.

Type of Review: Regular.

Affected Public: Individuals.

Total Estimated Number of Respondents Across All Three Years: 300.

Total Estimated Number of Annual Respondents: 100.

Estimated Time per Respondent: 1 hour.

Total Annual Burden Hours: 100.

Total Annualized Capital/Startup Costs: 0.

Total Annual Costs (Operating/Maintaining Systems or Purchasing Services): 0.

Request for Comments: Comments submitted in response to this notice will be summarized and/or included in the request for OMB approval. The OMB is particularly interested in comments which: (1.) Evaluate whether the proposed collection of information is necessary for the proper performance of the functions of the agency, including whether the information will have practical utility; (2.) Evaluate the accuracy of the agency's estimate of the burden of the proposed collection of information including the validity of the methodology and assumptions used; (3.) Enhance the quality, utility and clarity of the information to be collected; (4.) Minimize the burden of the collection of information on those who are to respond, including through the use of appropriate automated, electronic, mechanical or other technological collection techniques or other forms of information technology, e.g., permitting electronic submissions of responses; and (5.) Estimate the capital or start-up costs and costs of operation, maintenance, and purchase of services to provide information.

Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Dated: January 5, 2018.
Jillian Miller,
Director, Office of Guidelines and Panel Operations, Administrative Services, National Endowment for the Arts.

[FR Doc. 2018-00257 Filed 1-9-18; 8:45 am]

BILLING CODE 7537-01-P